DEPARTMENT OF EDUCATION

[Docket No.: ED-2025-SCC-0845]

Agency Information Collection Activities; Submission to the Office of Management and Budget for Review and Approval; Comment Request; DC School Choice Incentive Program

AGENCY: Office of Elementary and Secondary Education (OESE), Department of Education (ED).

ACTION: Notice.

SUMMARY: In accordance with the Paperwork Reduction Act (PRA) of 1995, the Department is proposing an extension without change of a previously approved information collection request (ICR).

DATES: Interested persons are invited to submit comments on or before March 19, 2026.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Yeh, (202) 987-1588.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: DC School Choice Incentive Program.

OMB Control Number: 1810-0774.

Type of Review: Extension without change of a previously approved ICR.

Respondents/Affected Public: Individual and Households.

Total Estimated Number of Annual Responses: 3,000.

Total Estimated Number of Annual Burden Hours: 1,000.

Abstract: The DC Opportunity Scholarship Program (OSP) is currently authorized under the Scholarships for Opportunity and Results Act (SOAR). Under the SOAR Act, the U.S. Department of Education awards a grant to a non-profit to administer scholarships to students who reside in the District of Columbia and come from households whose incomes do not exceed 185% of the poverty line (300% of the poverty line for returning students). The current administrator of the OSP is Serving Our Children (SOC). Under the law, priority is given to siblings of students in the program, and students who are currently attending low-performing schools, as defined by Title I. To assist in the student selection and assignment process, the information collected is used to determine the eligibility of those students who are interested in the available scholarships.

Ross Santy,
Chief Data Officer, Office of Planning, Evaluation and Policy Development.

[FR Doc. 2026-03004 Filed 2-13-26; 8:45 am]

BILLING CODE 4000-01-P